DEPARTMENT OF THE INTERIOR

Bureau of Land Management

[NM-020-1040-HV; NMNM-102554]

A Direct Sale of Public Land to Richard Montoya of Santa Fe, NM

AGENCY: Bureau of Land Management (BLM), Interior.

ACTION: Notice of realty action.

SUMMARY: The following public land has been found suitable for direct sale under Section 203 of the Federal Land Policy and Management Act of 1976 (90 Stat. 2750, 43 U.S.C. 1713) and at no less than the estimated fair market value. The land will not be offered for sale until at least 60 days after the date of this notice.

New Mexico Principal Meridian

T. 17 N., R. 9 E.,

Section 33, lot 37

The subject public land containing 0.38 acres, more or less will be sold to Richard Montoya, of Santa Fe, NM. The sale is being done to comply with Mr. Montoya's color-of-title case. The proposed sale is for surface rights only. The disposal is consistent with the Taos Resource Area Management Plan dated October 1988, state and local government programs, plans, and applicable regulations.

EFFECTIVE DATE: Interested parties may submit comments on the direct sale on or before November 6, 2000.

ADDRESSES: Comments should be sent to the Taos Field Office Manager, BLM, 226 Cruz Alta Road, Taos, NM 87571.

FOR FURTHER INFORMATION CONTACT: Hal Knox, BLM, New Mexico State Office, P.O. Box 27115 or at (505) 438-7402.

SUPPLEMENTARY INFORMATION: The direct sale will contain the following reservations:

1. Excepting to the United States a right-of-way thereon for ditches or canals constructed by the authority of the United States in accordance with the Act of August 30, 1890 (43 U.S.C. 945).

2. All minerals shall be reserved to the United States, together with the right to prospect for, mine, and remove the minerals. A more detailed description of this reservation, which will be incorporated in the patent document or other document of conveyance is available for review at the BLM office.

The land will be conveyed subject to:

1. Valid existing rights-of-way and easements. Publication of this notice in the Federal Register will segregate the public land from appropriations under the public land laws including the mining laws but not the mineral leasing laws.

This segregation will terminate upon the issuance of a patent or other document of conveyance, 270 days from date of publication of this notice in the Federal Register or upon publication of Notice of Termination, which ever occurs first.

Any adverse comments will be evaluated by the State Director who may sustain, vacate, or modify this realty action. In the absence of any objections, this realty action will become the final determination of the Department of the Interior.

Dated: September 7, 2000.
Ron Huntsinger,
Taos Field Manager.

[FR Doc. 00-24139 Filed 9-19-00; 8:45 am]

BILLING CODE 4310-AG-P